FEDERAL ELECTION COMMISSION

Sunshine Act Meeting Notice

AGENCY: Federal Election Commission.

DATES AND TIMES: Thursday, November 29, 2007, at 10 a.m.

PLACE: 999 E Street, NW., Washington, DC (Ninth Floor).

STATUS: This meeting will be open to the public.

The following Item Has Been Added to the Agenda: Advisory Opinion 2007-30: Chris Dodd for President, Inc., by Marc E. Elias, Esq.

PERSON TO CONTACT FOR INFORMATION: Mr. Robert Biersack, Press Officer, Telephone: (202) 694-1220.

Mary W. Dove,
Secretary of the Commission.

[FR Doc. 07-5892 Filed 11-27-07; 3:06 pm]

BILLING CODE 6715-01-M